DEPARTMENT OF ENERGY

Federal Energy Regulatory Commission

Combined Notice of Filings #1

January 16, 2007.

Take notice that the Commission received the following electric rate filings:

Docket Numbers: ER06-707-000.

Applicants: Arkansas Electric Cooperative Corporation.

Description: Arkansas Electric Cooperative Corporation submits a notice, of conditional withdrawal of protests.

Filed Date: 01/11/2007.

Accession Number: 20070111-5016.

Comment Date: 5 p.m. Eastern Time on Monday, January 22, 2007.

Docket Numbers: ER06-739-004; ER06-738-004; ER03-983-003.

Applicants: Cogen Technologies Linden Venture, L.P.; East Coast Power, Linden Holding, L.L.C.

Description: Cogen Technologies Linden Venture LP et al notifies FERC, of a change in status resulting from acquisition of an, ownership interest in Babcock & Brown Wind Portfolio, Holdings 1 LLC etc.

Filed Date: 01/09/2007.

Accession Number: 20070111-0043.

Comment Date: 5 p.m. Eastern Time on Tuesday, January 30, 2007.

Docket Numbers: ER06-1452-001.

Applicants: PJM Interconnection, L.L.C.

Description: PJM Interconnection, LLC submits a corrected Wholesale, Market Participation Agreement.

Filed Date: 01/11/2007.

Accession Number: 20070112-0061.

Comment Date: 5 p.m. Eastern Time on Thursday, February 01, 2007.

Docket Numbers: ER06-1453-001.

Applicants: PJM Interconnection, L.L.C.

Description: PJM Interconnection, LLC submits a corrected Wholesale, Market Participation Agreement.

Filed Date: 01/10/2007.

Accession Number: 20070111-0046.

Comment Date: 5 p.m. Eastern Time on Wednesday, January 31, 2007.

Docket Numbers: ER07-233-001.

Applicants: Occidental Power Services, Inc.

Description: Occidental Power Services, Inc submits an amendment to its, 11/17/06 rate schedule amendment.

Filed Date: 01/10/2007.

Accession Number: 20070111-0044.

Comment Date: 5 p.m. Eastern Time on Wednesday, January 31, 2007.

Docket Numbers: ER07-340-001.

Applicants: Bell Independent Power Corporation.

Description: Bell Independent Power Corp submits an amended petition, for acceptance of initial Tariff, Original Volume 1, waivers, and blanket authority.

Filed Date: 01/11/2007.

Accession Number: 20070112-0062.

Comment Date: 5 p.m. Eastern Time on Thursday, February 01, 2007.

Docket Numbers: ER07-358-001.

Applicants: Southwest Power Pool, Inc.

Description: Southwest Power Pool, Inc submits a supplement to its, 12/22/06 filing of an executed Service Agreement for Firm, Point-to-Point Transmission Service w/ Western Resources, dba Westar Energy etc.

Filed Date: 01/11/2007.

Accession Number: 20070112-0063.

Comment Date: 5 p.m. Eastern Time on Thursday, February 01, 2007.

Docket Numbers: ER07-422-000.

Applicants: New York Independent System Operator., Inc.

Description: New York Independent System Operator, Inc submits, proposed revisions to its Open Access Transmission Tariff, and its Market Administration and Control Area Services, Tariff.

Filed Date: 01/09/2007.

Accession Number: 20070111-0017.

Comment Date: 5 p.m. Eastern Time on Tuesday, January 30, 2007.

Docket Numbers: ER07-423-000.

Applicants: South Carolina Electric & Gas Company.

Description: South Carolina Electric & Gas Co submits a Facilities, Agreement with New Horizon Electric Cooperative.

Filed Date: 01/10/2007.

Accession Number: 20070111-0045.

Comment Date: 5 p.m. Eastern Time on Wednesday, January 31, 2007.

Docket Numbers: ER07-424-000.

Applicants: PJM Interconnection, L.L.C.

Description: PJM Interconnection LLC submits a report of the, recommended allocations of cost responsibility for baseline, transmission updgrades reviewed and approved by PJM, Board of Managers and revised tariff sheets.

Filed Date: 01/11/2007.

Accession Number: 20070112-0064.

Comment Date: 5 p.m. Eastern Time on Monday, February 12, 2007.

Docket Numbers: ER07-425-000.

Applicants: American Electric Power Service Corporation.

Description: American Electric Power Service Corp submits notices of, cancellation for two ERCOT Generation Interconnection, Agreements between AEP TCC and La Palma WLE, LP and, AEP TCC and Lon C. Hill.

Filed Date: 01/12/2007.

Accession Number: 20070116-0051.

Comment Date: 5 p.m. Eastern Time on Friday, February 02, 2007.

Take notice that the Commission received the following foreign utility company status filings:

Docket Numbers: FC07-6-000.

Applicants: Nuovo Pignone s.p.a.

Description: Nuovo Pignone s.p.a. submits a notice for Self-Certification, of Foreign Utility Company Status pursuant to Section 366.1, of the Commission's regulations.

Filed Date: 12/29/2006.

Accession Number: 20070110-0085.

Comment Date: 5 p.m. Eastern Time on Friday, January 19, 2007.

Take notice that the Commission received the following electric reliability filings:

Docket Numbers: RR06-1-005.

Applicants: North American Electric Reliability Corporation.

Description: North American Electric Reliability Corporation submits a, compliance filing in response to the Commission's order, issued 10/30/06.

Filed Date: 01/12/2007.

Accession Number: 20070112-5032.

Comment Date: 5 p.m. Eastern Time on Friday, February 02, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E7-874 Filed 1-22-07; 8:45 am]

BILLING CODE 6717-01-P